INTERNATIONAL TRADE COMMISSION

[Investigation No. 337-TA-817]

Certain Communication Equipment, Components Thereof, and Products Containing the Same, Including Power Over Ethernet Telephones, Switches, Wireless Access Points, Routers and Other Devices Used in LANs, and Cameras; Commission Determination Not to Review Initial Determinations Terminating Respondent Avaya Inc. Based on Settlement and Terminating the Investigation Based on Withdrawal of the Complaint; Termination of the Investigation

AGENCY: U.S. International Trade Commission.

ACTION: Notice.

SUMMARY: Notice is hereby given that the U.S. International Trade Commission has determined not to review two initial determinations (“IDs”) (Order Nos. 23-24) of the presiding administrative law judge (“ALJ”) granting a joint motion by Complainant and Respondent Avaya Inc. (“Avaya”) to terminate the investigation for Respondent Avaya based on settlement and a motion by Complainant to terminate the investigation in its entirety based on withdrawal of the complaint.

FOR FURTHER INFORMATION CONTACT: Amanda S. Pitcher, Esq., Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 7, 2011, based on a complaint filed by ChriMar Systems, Inc. d/b/a DMS Technologies (“ChriMar”) of Farmington Hills, Michigan. 76 FR 76436-37 (Dec. 7, 2011). The complaint alleges a violation of section 337 by reason of infringement of certain claims of U.S. Patent No. 7,457,250 by certain communication equipment, components thereof, and products containing the same, including power over ethernet telephones, switches, wireless access points, routers and other devices used in LANs, and cameras. The Notice of Investigation named a number of respondents, including Avaya of Basking Ridge, New Jersey; Cisco Consumer Products LLC of Irvine, California, Cisco Systems International B.V. of the Netherlands, Cisco-Linksys LLC of Irvine, California (collectively, “Cisco”); Hewlett-Packard Co. (“HP”) of Palo Alto, California; and Extreme Networks, Inc. (“Extreme”) of Santa Clara, California.

On July 18, 2012, ChriMar and Avaya filed a joint motion to terminate respondent Avaya from the investigation based on settlement. The Commission investigative attorney filed a response in support of the motion and the remaining respondents did not oppose the motion. On August 1, 2012, the ALJ issued Order No. 23 granting the motion. ChriMar and Avaya represented that there are no other agreements, written or oral, express or implied, between them. The ALJ found that there is no evidence that the settlement agreement would have an adverse impact on the public interest. No petitions for review of Order No. 23 were filed.

On July 20, 2012, ChriMar filed a motion for termination of the investigation in its entirety based on withdrawal of the complaint against respondents Cisco, Extreme and HP. Cisco, Extreme, HP and the Commission investigative attorney filed responses in support of the motion. On August 1, 2012, the ALJ granted ChriMar's motion. Order No. 24. The ALJ found that there is good cause for termination based on withdrawal of the complaint. In addition, the ALJ stated that he is not aware of “extraordinary circumstances” that would preclude granting the motion to terminate. No petitions for review of Order No. 24 were filed.

The Commission has determined not to review the IDs.

The authority for the Commission's determination is contained in section 337 of the Tariff Act of 1930, as amended (19 U.S.C. 1337), and in section 210.42-44 of the Commission's Rules of Practice and Procedure (19 CFR 210.42-44).

By order of the Commission.
Issued: August 27, 2012.
Lisa R. Barton,
Acting Secretary to the Commission.

[FR Doc. 2012-21491 Filed 8-30-12; 8:45 am]

BILLING CODE 7020-02-P